DEPARTMENT OF LABOR

Employment and Training Administration

[TA-W-72,888]

Tektronix, Inc., Including Workers Whose UI Wages Were Reported Under Tektronix Component Solutions, Formerly Known as Maxtek, and Tektronix Service Solutions, a Subsidiary of Tektronix, Inc. and Including On-Site Leased Workers From Adecco Employment Services Beaverton, OR; Amended Certification Regarding Eligibility To Apply for Worker Adjustment Assistance

In accordance with Section 223 of the Trade Act of 1974, as amended (“Act”), 19 U.S.C. 2273, the Department of Labor issued a Certification of Eligibility to apply for Worker Adjustment Assistance on March 2, 2010, applicable to workers of Tektronix, Inc., Beaverton, Oregon. The workers produce general purpose electronic test equipment. The notice was published in the Federal Register on April 23, 2010 (75 FR 21361) An amended certification was issued on April 19, 2010 to include workers whose wages were reported under a separate unemployment insurance (UI) tax account for Maxtek, a wholly owned subsidiary of Tektronix, Inc. The notice was published in the Federal Register on April 29, 2010 (75 FR 22629)

At the request of a company official, the Department reviewed the certification for workers of the subject firm. The workers are engaged in activities related to production of general purpose electronic test equipment.

New information shows that Maxtek has been renamed to Tektronix Component Solutions. In addition, some workers of Tektronix, Inc., Beaverton, Oregon may now have their wages reported under Tektronix Service Solutions, a new subsidiary of Tektronix, Inc. Accordingly, the Department is amending this certification to properly reflect this matter.

The intent of the Department's certification is to include all workers of the subject firm who were adversely affected by the shift in production of general purpose electronic test equipment to a foreign country.

The amended notice applicable to TA-W-72,888 is hereby issued as follows:

All workers Tektronix, Inc., including workers of Tektronix Component Solutions, formerly known as Maxtek, and Tektronix Service Solutions, a subsidiary of Tektronix, Inc., and including on-site leased workers from Adecco Employment Services, Beaverton, Oregon, who became totally or partially separated from employment on or after November 17, 2008, through March 2, 2012, and all workers in the group threatened with total or partial separation from employment on the date of certification through two years from the date of certification, are eligible to apply for adjustment assistance under Chapter 2 of Title II of the Trade Act of 1974, as amended.

Signed in Washington, DC, this 4th day of March 2011.
Michael W. Jaffe,
Certifying Officer, Office of Trade Adjustment Assistance.

[FR Doc. 2011-12781 Filed 5-24-11; 8:45 am]

BILLING CODE 4510-FN-P